FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements (202) 523-5793 or tradeanalysis@fmc.gov.

Agreement No.: 010071-035.

Title: Cruise Lines International Association Agreement.

Parties: American Cruise Lines, Inc.; Azamara Cruises; Carnival Cruise Lines; Celebrity Cruises, Inc.; Costa Cruise Lines; Crystal Cruises; Cunard Line; Disney Cruise Line; Holland America Line; Hurtigruten, Inc.; Majestic America Line; MSC Cruises; NCL Corporation; Oceania Cruises; Orient Lines; Princess Cruises; Regent Seven Seas Cruises; Royal Caribbean International; Seabourn Cruise Line; SeaDream Yacht Club; Silversea Cruises, Ltd. and Windstar Cruises.

Filing Party: Farhad R. Alavi, Esq.; Holland & Knight LLP; 2099 Pennsylvania Avenue, NW., Suite 100; Washington, DC 20006.

Synopsis: The amendment would add AMA Waterways as parties to the agreement.

Agreement No.: 010982-043.

Title: Florida-Bahamas Shipowners and Operators Association.

Parties: Atlantic Caribbean Line, Inc.; Bernuth Lines, Ltd.; Crowley Liner Services, Inc.; Pioneer Shipping Ltd.; Seaboard Marine, Ltd.; Seafreight Line, Ltd.; and Tropical Shipping and Construction Co., Ltd.

Filing Party: Wayne R. Rohde, Esq.; Sher & Blackwell LLP; 1850 M Street, NW.; Suite 900; Washington, DC 20036.

Synopsis: The amendment deletes Nina (Bermuda) Ltd. dba FTD Shipping Line as a party to the agreement.

Agreement No.: 011953-004.

Title: Florida Shipowners Group Agreement.

Parties: The member lines of the Caribbean Shipowners Association and the Florida-Bahamas Shipowners and Operators Association.

Filing Party: Wayne R. Rhode, Esq.; Sher & Blackwell, LLP; 1800 M Street, NW. Suite 900, Washington, DC 20036.

Synopsis: The amendment deletes Nina (Bermuda) Ltd. dba FTD Shipping Line as a party to the agreement.

Agreement No.: 201186.

Title: Mobile Container Terminal Cooperative Working Agreement.

Parties: APM Terminals North America, Inc.; CMA CGM, S.A.; Maersk, Inc. as agent to A.P. Moeller-Maersk; Mobile Container Terminal, LLC; and Terminal Link USA, LLC.

Filing Party: Wayne R. Rohde, Esq.; Sher & Blackwell, LLP; 1850 M Street, NW. Suite 900, Washington, DC 20036.

Synopsis: The agreement would authorize APM and Terminal Link to form and operate a limited liability company, Mobile Container, to operate a new container terminal at the Port of Mobile. The agreement also provides that CMA/Terminal Link and APM will not compete with Mobile Container's operations at Mobile.

Agreement No.: 201187.

Title: Port of Seattle/Port of Tacoma Puget Sound Air Quality Discussion Agreement.

Parties: Port of Seattle and Port of Tacoma.

Filing Party: Thomas H. Tanaka, Esq.; Senior Port Counsel; Port of Seattle; PO Box 1209; Seattle, WA 98111.

Synopsis: The Agreement would authorize the parties to discuss and reach agreement on measures addressing environmental issues arising from port operations.

Dated: May 23, 2008.
By Order of the Federal Maritime Commission.
Karen V. Gregory,
Assistant Secretary.

[FR Doc. E8-12018 Filed 5-28-08; 8:45 am]

BILLING CODE 6730-01-P